DEPARTMENT OF COMMERCE

National Oceanic and Atmospheric Administration

50 CFR Part 679

[Docket No. 240417-0111]

RTID 0648-XE003

Fisheries of the Exclusive Economic Zone Off Alaska; Recreational Fishing for Chinook Salmon in the Cook Inlet Exclusive Economic Zone Area

AGENCY: National Marine Fisheries Service (NMFS), National Oceanic and Atmospheric Administration (NOAA), Commerce.

ACTION: Temporary rule; closure.

SUMMARY: NMFS is prohibiting recreational fishing for Chinook salmon in the Cook Inlet exclusive economic zone (EEZ) Area. This action is necessary for the conservation of all Cook Inlet Chinook stocks due to the uncertainty of run strength and to protect stocks of concern.

DATES: Effective 0001 hours, Alaska local time (A.l.t.), May 30, 2024, through 2400 hours, A.l.t., August 15, 2024.

FOR FURTHER INFORMATION CONTACT: Adam Zaleski, 907-586-7228.

SUPPLEMENTARY INFORMATION: NMFS manages the Cook Inlet EEZ Area according to the Fishery Management Plan for Salmon Fisheries in the EEZ off Alaska (Salmon FMP). The intended effect of this action is to conserve and manage the salmon resources in Cook Inlet EEZ Area in accordance with the Magnuson-Stevens Fishery Conservation and Management Act (Magnuson-Stevens Act). Regulations governing fishing by U.S. vessels in accordance with the FMP appear at subpart H of 50 CFR parts 600 and 679.

In accordance with § 679.118(c)(1)(ii), the Regional Administrator has determined it is necessary to close Chinook salmon recreational fishing for conservation and management purposes and is prohibiting recreational fishing for Chinook salmon in the Cook Inlet EEZ Area. In making this determination, the Regional Administrator has considered the following factors: the low proposed Chinook salmon acceptable biological catch in the Cook Inlet EEZ Area (270), anticipated harvest rates, expected mortality, and the potential number of participants.

Classification

NMFS issues this action pursuant to section 305(d) of the Magnuson-Stevens Act. This action is authorized by 50 CFR 679.118(c)(1)(ii), which was issued pursuant to section 304(c), and is necessary to carry out the Salmon FMP. This action is exempt from review under Executive Order 12866.

Pursuant to 5 U.S.C. 553(b)(B), there is good cause to waive prior notice and an opportunity for public comment on this action. Notice and comment would be impracticable and contrary to the public interest, as it would prevent NMFS from responding to the most recent information regarding the status of Cook Inlet Chinook salmon stocks in a timely fashion. This action is being taken pursuant to regulations implementing amendment 16 to the Salmon FMP (April 30, 2024, 89 FR 34718). These Federal salmon management measures—which generally allow for recreational harvest of all salmon stocks in the Cook Inlet EEZ year-round—become effective May 30, 2024. Therefore, publishing a notification providing time for public comment would delay the closure of the Cook Inlet EEZ to recreational Chinook salmon fishing until after the regulations that otherwise authorize such fishing become effective. A delay of this closure would prevent the accomplishment of the conservation and management objectives for the Cook Inlet EEZ Area salmon fishery, resulting in recreational harvest of Chinook salmon that is not supported by current stock levels.

The Assistant Administrator for Fisheries, NOAA also finds good cause to waive the 30-day delay in the effective date of this action under 5 U.S.C. 553(d)(3). This finding is based upon the reasons provided above for waiver of prior notice and opportunity for public comment.

Authority: 16 U.S.C. 1801 et seq.

Dated: May 24, 2024.
Karen H. Abrams,
Acting Director, Office of Sustainable Fisheries, National Marine Fisheries Service.

[FR Doc. 2024-11946 Filed 5-30-24; 8:45 am]

BILLING CODE 3510-22-P